DEPARTMENT OF TRANSPORTATION

Federal Aviation Administration

Aviation Rulemaking Advisory Committee; General Aviation Certification and Operations Issues—New Task

AGENCY: Federal Aviation Administration (FAA), DOT.

ACTION: Notice of new task assignment for the Aviation Rulemaking Advisory Committee (ARAC).

SUMMARY: The FAA assigned the Aviation Rulemaking Advisory Committee a new task to evaluate miscellaneous systems and recommend rulemaking to address system safety that would improve the safety of part 23 airplanes. This notice is to inform the public of this ARAC activity.

FOR FURTHER INFORMATION CONTACT: Leslie Taylor, Aerospace Engineer, Federal Aviation Administration, Central Region Headquarters, 901 Locust, Kansas City, Missouri 64106, (816) 329-4134, leslie.taylor@faa.gov.

SUPPLEMENTARY INFORMATION:

Background

The FAA established the Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

The Task

Evaluate the requirements for systems in the sections below and recommend rulemaking changes, in the form of an NPRM, to address systems safety which would improve the safety of part 23 airplanes—

• Revise § 23.735 to clarify the requirement for operation of brakes after a single failure in the braking system in commuter category airplanes.

• Revise § 23.1301 by deleting paragraph (d), and revise § 23.1309 to include warning requirements, probability values, and failure conditions applicable to powerplant systems; and make warning requirements compatible with other regulations; and delete paragraph (c) and (d).

• Add a new § 23.1310, Power Source Capacity and Distribution from existing paragraphs 23.1309 (c) and (d).

• Revise § 23.1311 to address redundancy requirements for primary flight instruments; define “indicator”, the sensory cue requirements in paragraph (a)(6), and delete the redundancy requirement in paragraph (b).

• Review and revise §§ 23.1326(b)(1) and 23.1322 requiring the amber light to be illuminated when the pitot tube heater is “off”.

• Review and revise § 23.1311 to call out required flight instruments as indicated in §§ 23.1303 and 91.205.

Schedule: The draft NPRM is to be submitted no later than December 31, 2002.

ARAC Acceptance of Task

ARAC accepted the task and assigned the task to the newly formed Part 23 Electrical Systems Harmonization Working Group, General Aviation Certification and Operations Issues. The working group serves as staff to ARAC and assists in the analysis of the assigned tasks. ARAC must review and approve the working group's recommendations. If ARAC accepts the working group's recommendations, it will forward them to the FAA. Recommendations that are received from ARAC will be submitted to the agency's Rulemaking Management Council to address the availability of resources and prioritization.

Working Group Activity

The part 23 Electrical Systems Harmonization Working Group is expected to comply with the procedures adopted by ARAC. As part of the procedures, the working group is expected to:

1. Recommend a work plan for completion of the task, including the rationale supporting such a plan for consideration at the next meeting of the ARAC on general aviation certification and operations issues held following publication of this notice.

2. Give a detailed conceptual presentation of the proposed recommendations prior to proceeding with the work stated in item 3 below.

3. Draft the appropriate documents, required analyses, and any other related materials or documents.

4. Provide a status report at each meeting of the ARAC held to consider general aviation certification and operations issues.

Participation in the Working Group

The part 23 Electrical Systems Harmonization Working Group will be composed of technical experts having an interest in the assigned task. A working group member need not be a representative or a member of the full committee.

An individual who has expertise in the subject matter and wishes to become a member of the working group should write to the person listed under the caption FOR FURTHER INFORMATION CONTACT expressing that desire, describing his or her interest in the task, and stating the expertise he or she would bring to the working group. We must receive all requests by September 7, 2001. The co-assistant chairs, the co-assistant executive directors, and the working group chairs will review the requests. We will advise individuals whether or not we can accommodate their request.

Individuals chosen for membership on the working group will be expected to represent their aviation community segment and actively participate in the working group (e.g., attend all meetings, provide written comments when requested to do so, etc.). We also expect them to devote the resources necessary to support the working group in meeting any assigned deadlines. Members must keep their management chain and those they represent advised of working group activities and decisions to ensure that the proposed technical solutions do not conflict with their sponsoring organization's position when the subject being negotiated is presented to ARAC for approval.

Once the working group has begun deliberations, members will not be added or substituted without the approval of the co-assistant chairs, the co-assistant executive directors, and the working group chairs.

The Secretary of Transportation determined that the formation and use of the ARAC is necessary and in the public interest in connection with the performance of duties imposed on the FAA by law.

Meetings of the ARAC are open to the public. Meetings of the part 23 Electrical Systems Harmonization Working Group are not open to the public, except to the extent that individuals with an interest and expertise are selected to participate. The FAA makes no public announcement of working group meetings.

Issued in Washington, DC, on August 16, 2001.
Anthony F. Fazio,
Executive Director, Aviation Rulemaking Advisory Committee.

[FR Doc. 01-21172 Filed 8-21-01; 8:45 am]

BILLING CODE 4910-13-M